DEPARTMENT OF LABOR

Employment and Training Administration

[TA-W-64,859]

New Castle E Coating Plus, LLC, New Castle, IN; Notice of Termination of Investigation

Pursuant to Section 221 of the Trade Act of 1974, as amended, an investigation was initiated on January 12, 2009 in response to a petition filed by a company official on behalf of workers of New Castle E Coating Plus, LLC, New Castle, Indiana.

The petitioner has requested that the petition be withdrawn. Consequently, the investigation has been terminated.

Signed at Washington, DC, this 3rd day of April 2009.
Richard Church,
Certifying Officer, Division of Trade Adjustment Assistance.

[FR Doc. E9-10565 Filed 5-6-09; 8:45 am]

BILLING CODE 4510-FN-P